DEPARTMENT OF TRANSPORTATION

Federal Aviation Administration

Notice of Intent To Rule on Application To Impose and Use the Revenue From a Passenger Facility Charge (PFC) at Birmingham International Airport, Birmingham, AL

AGENCY: Federal Aviation Administration (FAA), DOT.

ACTION: Notice of intent to rule on application.

SUMMARY; The FAA proposes to rule and invites public comment on the application to impose and use the revenue from a PFC at Birmingham International Airport under the provisions of the Aviation Safety and Capacity Expansion Act of 1990 (Title IX of the Omnibus Budget Reconciliation Act of 1990) (Pub. L. 101-508) and Part 159 of the Federal Aviation Regulations (14 CFR Part 158).

DATES: Comments must be received on or before September 17, 2003.

ADDRESSES: Comments on this application may be mailed or delivered in triplicate to the FAA at the following address: Jackson Airports District Office, 100 West Cross Street, Suite B, Jackson, MS 39208-2307.

In addition, one copy of any comments submitted to the FAA must be mailed or delivered to Mr. Walker Johnson, Director of Finance of the Birmingham Airport Authority at the following address: Birmingham Airport Authority, 5900 Airport Highway, Birmingham, AL 35212.

Air carriers and foreign air carriers may submit copies of written comments previously provided to the Birmingham Airport Authority under § 158.23 of part 158.

FOR FURTHER INFORMATION CONTACT: Mr. Keafur Grimes, Program Manager, Jackson Airports District Office, 100 West Cross Street, Jackson, Mississippi 39208-2307, 601-664-9884. The application may be reviewed in person at this same location.

SUPPLEMENTARY INFORMATION: The FAA proposes to rule and invites public comment on the application to impose and use the revenue from a PFC at Birmingham International Airport under the provisions of the Aviation Safety and Capacity Expansion Act of 1990 (Title IX of the Omnibus Budget Reconciliation Act of 1990) (Pub. L. 101-508) and part 158 of the Federal Aviation Regulations (14 CFR part 158).

On July 29, 2003, the FAA determined that the application to impose and use the revenue from a PFC submitted by Birmingham Airport Authority was substantially complete within the requirements of § 158.25 of part 158. The FAA will approve or disapprove the application, in whole or in part, no later than November 25, 2003.

The following is a brief overview of the application.

PFC Application No.: 03-04-C-00-BHM.

Level of the proposed PFC: $3.00.

Proposed charge effective date: November 1, 2003.

Proposed charge expiration date: September 30, 2007.

Total estimated net PFC revenue: $11,459,371.

Brief description of proposed project(s): Obstruction removal, construct sewer lift station, demolition old ATCT, expand air-carrier apron.

Class or classes of air carriers which the public agency has requested not be required to collect PFCs: FAR Part Air Taxi/Commercial Operators filing FAA Form 1800-1.

Any person may inspect the application in person at the FAA office listed above under FOR FURTHER INFORMATION CONTACT.

In addition, any person may, upon request, inspect the application, notice and other documents germane to the application in person at the Birmingham Airport Authority.

Issued in Jackson, Mississippi on August 4, 2003.
Charles Harris,
Manager, Jackson Airports District Office, Southern Region.

[FR Doc. 03-21109 Filed 8-15-03; 8:45 am]

BILLING CODE 4910-13-M